DEPARTMENT OF TRANSPORTATION

Office of the Secretary

Aviation Proceedings, Agreements Filed During the Week Ending March 10, 2000

The following Agreements were filed with the Department of Transportation under the provisions of 49 U.S.C. 412 and 414. Answers may be filed within 21 days after the filing of the application.

Docket Number: OST-2000-7042.

Date Filed: March 7, 2000.

Parties: Members of the International Air Transport Association.

Subject

PTC COMP 0589 dated 7 March 2000

Composite Resolution 002y

Minutes—PTC COMP 0588 dated 7 March 2000

Intended effective date: 1 April 2000 (except to/from Japan 15 April 2000)

Docket Number: OST-2000-7043.

Date Filed: March 8, 2000.

Parties: Members of the International Air Transport Association.

Subject

PTC12 NMS-AFR 0078 dated 10 February 2000 (Mail Vote 064)

Mid Atlantic-Africa Resolutions r1-r9 PTC12 NMS-AFR 0082 dated 7 March 2000 adopting (Mail Vote 064)

PTC12 NMS-AFR 0080 dated 15 February 1999

South Atlantic-Africa Resolutions r10-r22

Minutes—PTC12 NMS-AFR 0081 dated 18 February 2000 filed with Docket OST-00-6988

Tables—PTC12 NMS-AFR FARES 0050 dated 7 March 2000

PTC12 NMS-AFR FARES 0049 dated 25 February 2000 Intended effective date: 1 April 2000

Docket Number: OST-2000-7044.

Date Filed: March 8, 2000.

Parties: Members of the International Air Transport Association.

Subject

PTC2 EUR-AFR 0099 dated 25 February 2000

TC2 Europe-Africa Resolutions r1-r56

PTC2 EUR-AFR 0101 dated 3 March 2000 (Technical Correction)

Minutes—PTC2 EUR-AFR 0100 dated 29 February 2000

Tables—PTC2 EUR-AFR Fares 0061 dated 3 March 2000

PTC2 EUR-AFR Fares 0062 dated 3 March 2000

PTC2 EUR-AFR Fares 0063 dated 3 March 2000

PTC2 EUR-AFR Fares 0064 dated 3 March 2000

PTC2 EUR-AFR Fares 0065 dated 3 March 2000

PTC2 EUR-AFR Fares 0066 dated 3 March 2000

Intended effective date: 1 May 2000

Docket Number: OST-2000-7067.

Date Filed: March 10, 2000.

Parties: Members of the International Air Transport Association.

Subject

PTC2 ME-AFR 0047 dated 29 February 2000

TC2 Middle East-Africa Resolutions r1-r18

Minutes—PTC2 ME-AFR 0048 dated 7 March 2000

Tables—PTC2 ME-AFR FARES 0032 dated 7 March 2000

Intended effective date: 1 May 2000

Dorothy Walker,
Federal Register Liaison.

[FR Doc. 00-7464 Filed 3-24-00; 8:45 am]

BILLING CODE 4910-62-P